DEPARTMENT OF LABOR

Employment and Training Administration

Digital Literacy and Resilience, Request for Information (RFI)

AGENCY: Employment and Training Administration (ETA), Labor.

ACTION: Request for information: request for comments.

SUMMARY: The U.S. Department of Labor (DOL) is requesting information on successful approaches related to digital skills attainment and competency development in education and training efforts, the strategies our education and workforce development systems are employing to assess and ensure individuals are digitally resilient, and any challenges the education and public workforce systems are facing. DOL is also requesting information on strategies to advance digital equity and inclusion in the workforce. DOL developed this RFI with substantial input from the U.S. Department of Commerce (Commerce), U.S. Department of Education (ED), and the Institute of Museum and Library Sciences (IMLS), as part of its long-standing coordination and partnership with these agencies.

DATES: To be ensured consideration, comments are due by February 6, 2023.

ADDRESSES: You may submit comments in response to the RFI described in this notice by one of the following methods:

Electronic submission: Submit comments by email to: DigLiteracyRFI@dol.gov.

Postal mail and hand delivery/courier: Written comment submissions may be mailed or delivered to Attn: Yufanyi Nshom, Office of Workforce Investment, U.S. Department of Labor, 200 Constitution Avenue NW, Suite C-4510, Washington, DC 20210.

Instructions: The Department of Labor invites all interested parties to submit responses to the questions posed in the below `Request for Information' section. Label all submissions with “Digital Literacy/Digital Resilience RFI.” Please submit your comments by only one method.

FOR FURTHER INFORMATION CONTACT: DOL: Yufanyi Nshom, Office of Workforce Investment (OWI), U.S. Department of Labor, Employment and Training Administration, 200 Constitution Avenue NW, Room C-4510, Washington, DC 20210, Telephone: (202) 693-3915 (this is not a toll-free number), Email: DigLiteracyRFI@dol.gov.

SUPPLEMENTARY INFORMATION:

Background: The federal government has supported digital literacy and digital equity across a variety of sectors and through a range of programs. Attaining and maintaining digital literacy is critical to surviving and thriving in modern society. Digital resilience signifies having the awareness, skills, agility, and confidence to empower users of new technologies and adapt to changing digital skill demands. Digital resilience improves capacity to problem-solve and upskill in employment, navigate digital transformations, and be active participants in society and the economy.¹ Under the Bipartisan Infrastructure Law of 2021 (BIL, Pub. L. 117-58), digital equity is defined as the “condition in which individuals and communities have the information technology capacity that is needed for full participation in the society and economy of the United States.” Under BIL, digital inclusion refers to having reliable and affordable access to technology, broadband infrastructure, and training. The Workforce Innovation and Opportunity Act of 2014 (WIOA, Pub. L. 113-39) and Digital Equity Act of 2021 (DEA),² applying the Museum and Library Services Act definition, both define digital literacy as “the skills associated with using technology to enable users to find, evaluate, organize, create, and communicate information.” ³ WIOA includes digital literacy as a workforce preparation activity, thereby allowing states to use their WIOA funding allotments to increase digital literacy for successful transition into and completion of postsecondary education and training or employment. Workforce preparation activities were included in WIOA to further its overall goal of improving coordination between the public workforce system ⁴ and industry partners. Workers, jobseekers and employers meet their workforce needs through the core title I programs that support eligible adults, youth, and dislocated workers, administered by DOL; and through title II (Adult Education and Family Literacy Act) and title IV (Vocational Rehabilitation) programs, administered by ED.

¹ Building a Digitally Resilient Workforce: Creating On-Ramps to Opportunity. (2020). Digital US Coalition. https://digitalus.org/wp-content/uploads/2020/06/DigitalUS-Report-pages-20200602.pdf.

² Text—H.R.3684—117th Congress (2021-2022): Infrastructure Investment and Jobs Act | Congress.gov | Library of Congress.

³ Section 101(d)(7)(A) of WIOA, as defined in section 202 of the Museum and Library Services Act (20 U.S.C. 9101).

⁴ The term “workforce development system” as defined in WIOA, means a system “that makes available the core program, the other one-stop partner programs, and any other programs providing employment and training services as identified by a State local board or local board.” STATUTE-128-Pg1425.pdf (congress.gov). Section 203(17) of WIOA defines workforce preparation activities as “activities, programs, or services designed to help an individual acquire a combination of basic academic skills, critical thinking skills, digital literacy skills, and self-management skills, including competencies in utilizing resources, using information, working with others, understanding systems, and obtaining skills necessary for successful transition into and completion of postsecondary education or training, or employment.” (Pub. L. 113-129).

Going forward, digital literacy will become increasingly important to securing a quality job and the advancement of the American workforce; therefore, it is imperative for federal agencies to better understand current trends in digital literacy and digital skills attainment. DOL, in collaboration with Commerce, ED, and IMLS, will use the information collected through this RFI to inform competitive grant opportunities, further develop technical assistance, inform public policy on the expansion of digital skill-building training programs that facilitate upskilling the workforce, and address demands related to digital literacy and access.

DOL's Employment and Training Administration (ETA) contributes to the more efficient functioning of the U.S. labor market by providing high-quality job training, employment, labor market information, and income maintenance services, primarily through state and local workforce development systems. This includes responsibility for implementing an integrated national workforce investment system that supports economic growth and provides workers with the information, advice, job search assistance, supportive services, and training for in-demand industries and occupations needed to get and keep quality jobs. Workforce services also help connect employers with skilled workers seeking employment. Available training services include both classroom and work-based learning opportunities provided through the American Job Center network. ETA's workforce development programs are designed to assist communities, educators, businesses, and jobseekers (e.g., adults, dislocated and transitioning workers, disadvantaged youth, veterans, older workers, individuals with disabilities, migrant and seasonal farmworkers, Indians and Native Americans, and others) compete in a changing global economy.

Commerce's National Telecommunications and Information Administration (NTIA) is leading the Biden-Harris Administration's internet For All initiative, which includes multiple new broadband deployment and digital equity and inclusion programs funded by the BIL. The BIL includes the Broadband Equity Access and Deployment (BEAD) program, providing $42.5 billion for funding broadband deployment and digital inclusion initiatives; the Digital Equity Act of 2021 ⁵, which provides $2.75 billion in formula and competitive grant funding for digital equity and inclusion planning and projects; and an additional $2 billion in funding for the existing Tribal Broadband Connectivity Program (TBCP). These collective programs will support states and other entities to advance digital equity, digital inclusion, digital literacy and workforce development initiatives in their respective territories.

⁵ Digital Equity Act Program Overview: https://www.internetforall.gov/sites/default/files/2022-05/digital-equity-act-info-sheet.pdf.

NTIA is also currently implementing additional broadband programs created by the Consolidated Appropriations Act of 2021 (CAA) ⁶. The CAA established the Office of Minority Broadband Initiatives within NTIA, to focus on collaboration for internet access and promotion of digital skills and digital inclusion at Historically Black Colleges and Universities (HBCUs), Tribal Colleges and Universities (TCUs), Minority-Serving Institutions (MSIs), and their surrounding communities. The CAA also established the Connecting Minority Communities Pilot Program, which provides grants to HBCUs, TCUs, MSIs, and minority business enterprises and nonprofits to be used for devices and internet service, as well as digital literacy programming and the hiring and training of technology personnel.

⁶ Consolidated Appropriations Act of 2021: http://www.congress.gov/bill/116th-congress/house-bill/133/text.

ED's Office of Career, Technical and Adult Education (OCTAE) supports the teaching and learning of digital skills for youth and adults. Preparing secondary, postsecondary and adult learners for career opportunities in STEM industry sectors, such as advanced manufacturing and healthcare, is essential to promoting innovation and economic growth. In recent Perkins V discretionary grant competitions, OCTAE issued a Notice Inviting Applications that promoted projects designed to improve student achievement or educational outcomes, including computer science, as a competitive preference priority. Annually, OCTAE administers the Presidential Cyber Security Educator award to recognize two educators—one at the elementary level, and one at the secondary level—who demonstrate superior achievement in instilling skills, knowledge, and passion with respect to cybersecurity and cybersecurity-related subjects.

OCTAE also funds projects to support adult education learners to engage with digital technologies and help practitioners improve their ability to deliver effective digital skills training and support. The projects include Digital Resilience in the American Workforce (DRAW), Enhancing Access for Refugees and New Americans, and the Adult EdTech Challenge. Over the next three years, ED will invest in funding these programs to support improving the quality of foundational digital literacy skills and training in adult education/literacy programs. If passed, the Digital Citizenship and Media Literacy Act of 2020 (DCML) would direct ED to award approximately $20 million bi-annually in grant funding to state/local education agencies to promote media literacy and digital citizenship.⁷ The DCML Act highlights the provision of information and technology literacy as an important strategy for preparing students for further education, training, and employment.

⁷ S.2240—116th Congress (2019-2020): Digital Citizenship and Media Literacy Act | Congress.gov | Library of Congress.

The federal Institute of Museum and Library Services (IMLS) also addresses digital literacy skills by statute (20 U.S.C. 9101 et seq.) and funds a range of training programs in libraries and museums. Library staff are often on the frontlines of helping individuals develop the digital skills they need for success in education, employment, and civic engagement. Among other projects, IMLS funding has supported the Public Library Association's DigitalLearn.org, an online hub for digital literacy support and training, as well as Salt Lake City Public Library's Digital Navigators Program, which identified massive digital inclusion needs exposed by the COVID-19 pandemic.

In accordance with President Biden's Executive Order on advancing racial equity and support for underserved communities through the federal government,⁸ federal agencies are tasked with developing a comprehensive approach to advance equity for historically underserved and marginalized communities adversely affected by persistent poverty and inequality. This approach requires agencies to assess whether, and to what extent, its programs and policies perpetuate systemic barriers to opportunities and benefits for underserved groups.⁹ As part of this effort, it is critically important to improve digital resilience and address issues of access around training, technology, and infrastructure to advance digital equity.¹⁰ An individual's access to technology and opportunities to develop digital skills is a key equity issue that affects their ability to participate in society. This issue disproportionately impacts Black, Indigenous, and other People of Color, as well as people in rural communities.¹¹

⁸ President Biden's Executive Order 13985, `Advancing Racial Equity and Support for Underserved Communities Through the Federal Government,' defines the term “equity” and directs every agency to assess whether underserved communities and their members face systemic barriers in accessing benefits and opportunities available under certain of its programs.

⁹ https://www.federalregister.gov/documents/2021/01/25/2021-01753/advancing-racial-equityand-support-for-underserved-communities-through-the-federal-government. As recent PIACC Survey of Adult Skills data shows, in the United States, 19 percent of adults are profoundly in need of literacy skills development. These adults are overrepresented in communities of color.

¹⁰ Under the DEA, the term “digital equity” means the condition in which individuals and communities have the information technology capacity that is needed for full participation in the society and economy of the United States. The term “digital inclusion” means the activities that are necessary to ensure that all individuals in the United States have access to, and the use of, affordable information and communication technologies, such as reliable fixed and wireless broadband internet service; and includes obtaining access to digital literacy training.

¹¹ Bergson-Shilcock, A. (2020). Applying a Racial Equity Lens to Digital Literacy. National Skills Coalition. https://www.nationalskillscoalition.org/wp-content/uploads/2020/12/Digital-Skills-Racial-Equity-Final.pdf.

Access to training programs, devices (i.e., computers) and reliable, high-speed internet varies across the country. Rural Americans consistently have lower adoption rates of broadband compared to urban or suburban Americans, and are less likely to own a smartphone, tablet, or computer.¹² Digitally redlined urban communities also face issues of access and adoption. One-third of Americans have limited to no digital skills, and People of Color are disproportionately affected by these digital skills mismatch.¹³ Additionally, individuals with disabilities are adopting technologies at lower rates compared to their non-disabled peers, regardless of their age.¹⁴ ED's Office of Education and Training (OET), through its Digital Equity Education Roundtables (DEER) Initiative, convened stakeholders to identify existing barriers to digital equity/inclusion adoption, defined under BIL as “daily access to the internet with the digital skills that are necessary for the individual to participate online.” The DEER Initiative found that one of the most significant challenges that impede adoption faced by learners, families/caregivers, and communities is the lack of digital skills necessary to fully take advantage of technology and access opportunities. It is vital to understand the need for digital resilience, the digital skills mismatch that exist amongst workers and learners, and how digital skills instruction alongside other basic skills can be contextualized and integrated into various education and training programs.

¹² https://www.pewresearch.org/fact-tank/2021/08/19/some-digital-divides-persist-between-rural-urban-and-suburban-america/.

¹³ https://www.nationalskillscoalition.org/wp-content/uploads/2020/12/Digital-Skills-Racial-Equity-Final.pdf.

¹⁴ https://www.pewresearch.org/fact-tank/2021/09/10/americans-with-disabilities-less-likely-than-those-without-to-own-some-digital-devices/.

As more jobs require digital resilience and access to reliable infrastructure, jobseekers, workers, and learners who lack digital literacy skills or other foundational career-readiness skills are at a disadvantage in both securing and retaining employment opportunities. Further, as noted in a 2020 report from the National Skills Coalition, “digital skill levels are strongly correlated with general literacy and numeracy skills,” such that “those who struggle with technology may also struggle with the academic skills needed to gain entry to a degree or other educational program.” ¹⁵ Occupations that have not traditionally required workers to be digitally resilient are increasingly demanding that workers have digital literacy skills. Current research suggests that while the demand for jobs requiring digital skills will increase, many workers and jobseekers continue to lack foundational digital skills. The National Skills Coalition's analysis of the Organization for Economic Cooperation and Development (OECD) Survey of Adult Skills (PIAAC) ¹⁶ found that 73 percent of workers in entry-level service work lacked digital problem-solving skills, and 67 percent struggled to use computers on the job.¹⁷ The lack of workers' digital skills bring considerable costs to workers and employers, and threaten economic recovery efforts by imposing a drag on economic productivity. A lack of digital resilience creates an opportunity cost on workers by limiting their career advancement opportunities and job prospects. A 2017 report titled “The Digital Edge: Middle-Skill Workers and Careers” ¹⁸ explains “the high price of low skills,” and how job seekers might have to turn down jobs or will be considered unqualified for jobs due to a lack of digital skills. Middle-skill jobs, defined in the report as those that typically require less than a bachelor's degree while paying a living wage, make up 46 percent of overall labor demand—and digital skills are widely required across the middle-skill labor market. 82 percent of “middle skill jobs” require digital skills, and 78 percent of these jobs require spreadsheets and word processing as the baseline for digital skills. In addition, the report concluded that digitally intensive middle-skill jobs pay 17 percent more than non-digital roles.

¹⁵ Bergson-Shilcock, 2020. The New Landscape of Digital Literacy. Washington, DC: National Skills Coalition. https://nationalskillscoalition.org/resource/publications/the-new-landscape-of-digital-literacy/.

¹⁶ https://nces.ed.gov/surveys/piaac/current_results.asp.

¹⁷ Bergson-Shilcock, 2017. Foundational skills in the service sector. Washington, DC: National Skills Coalition. https://www.nationalskillscoalition.org/resources/publications/file/NSC-foundational-skills-FINAL.pdf, p. 9-16.

¹⁸ The Digital Edge: Middle-Skill Workers and Careers. (2017). Burning Glass Technologies. https://www.burningglass.com/wp-content/uploads/Digital_Edge_report_2017_final.pdf.

Technology is built into nearly every aspect of our daily lives, including how Americans learn, work and communicate with each other. Digital literacy and resilience enable jobseekers, workers, and learners to participate in the global economy, and digital skills are necessary to access many of the public workforce programs that help job seekers successfully complete job-readiness and/or occupational training. The COVID-19 pandemic increased the need for the American workforce to utilize digital skills, and in today's labor market, the job search, recruitment, and application processes are becoming increasingly digitized. Despite the shift toward increased uses of digital tools and technology, an estimated 32 million Americans struggle to use a computer, and half of all Americans say they are not confident in using technology to learn.¹⁹ The pandemic also accelerated a shift to the online service delivery model, which exposed more nuanced features of the digital divide and illustrated the importance of being able to navigate digital transformations, such as managing the shift to online education, increased use of telehealth services, and the ability to secure goods and services necessary for every-day life. The shift created additional barriers for job seekers who lack the digital skills needed to access virtual services from the public workforce system, and further highlighted the impacts of systemic racism and inequity on disadvantaged communities. As digital literacy skills increasingly intertwine with basic job functions, the public workforce system will need to gather new data on digital skill demands to develop plans that address the technology gaps in priority industries across different geographies and demographics. This will ensure all individuals have the digital resilience needed to participate in education/training programs and society.

¹⁹ Mamedova, S., Pawlowski, E., & Hudson, L. (2018). A Description of U.S. Adults Who Are Not Digitally Literate (No. NCES2018-161; Statistics in Brief). US Department of Education. https://nces.ed.gov/pubs2018/2018161.pdf.

Request for Information: The U.S. Department of Labor, with input from the above-referenced Agencies, is interested in learning about successful approaches to improving digital literacy from workforce development providers, business and labor leaders, employers, educators, policymakers, advocates, including community-anchor institutions and other nonprofit organizations, researchers, and other interested individuals and entities. Through this RFI, the Agencies seek public input to gather information about digital literacy and competencies both prior to and during the COVID-19 pandemic, as applicable. The Agencies request that commenters address the key questions and themes, as noted below, in the context of the preceding discussion in this document. Commenters do not need to address every question and should focus on those that relate to their expertise or perspective. To the extent possible, please clearly indicate the question(s) addressed in your response.

Key Themes and Questions:

1. Current Trends in Digital Literacy: Please share how actors in the workforce development system, including education entities, libraries, community organizations, businesses or industry associations, and union or worker organizations, are currently engaged in digital literacy in the following areas:

(a) Assessing digital resilience for adult and youth learners?

(b) Addressing digital literacy skill demands or skills mismatches for adult and youth workers seeking employment or training services?

(c) Upskilling employees in the workforce, including incorporating digital skills instruction and integrating digital technologies into occupational skills training?

(d) Identifying in-demand digital literacy skills and/or skills most relevant for the local labor market? Are industry or occupation-specific skills being identified?

(e) Creating and utilizing incentives to engage workers and job seekers in digital learning?

(f) Developing/piloting innovative strategies and promising practices or projects to support digital resilience amongst learners?

(g) What are some examples of promising practices in the field of digital skills training?

(h) What are successful processes used by employers to share information on in-demand digital skills needed for their respective industry? How do employers share information with the public workforce system, including other employers, jobseekers and training providers?

(i) What are successful processes by which employers upgrade specific digital skills amongst their own workforces?

(j) Which library systems and museums do you consider to be exemplars in teaching digital skills? What promising practices do these institutions utilize to serve the public?

2. Challenges and Barriers to Digital Literacy: Please share identified mismatches, needs, and/or systemic barriers for stakeholders involved in digital literacy training:

(a) What barriers are individuals (adult and youth workers/learners) experiencing in accessing digital tools and/or training?

(b) What challenges are instructors and/or training providers facing when seeking to deliver digital literacy instruction and training to learners and/or workers?

(c) What are common mismatches in digital literacy that employers are facing for newly hired workers as well as incumbent workers?

(d) What resources are most needed by educators and training providers to address the challenges in providing digital skills training to individuals?

(e) What challenges are training program participants (adult and youth) facing, and where are there still mismatches in the digital literacy ecosystem (i.e., public school systems, libraries, employment service centers, etc.)?

(f) What challenges or barriers are local entities facing when attempting to use new or existing funding to support digital literacy training for learners?

3. Digital Equity and Inclusion: Please share what steps need to be taken by digital literacy stakeholders to ensure the following equity milestones are achieved:

(a) What additional resources are needed for workers of all backgrounds to access and succeed in digital literacy upskilling/training opportunities?

(b) How can programs ensure underserved and/or marginalized populations are adequately targeted for digital literacy training opportunities?

(c) How can digital skills/literacy efforts be integrated into ongoing worker preparation programs?

(d) What interventions/supports can be utilized to support digital inclusion for all program participants? For example, are there issues centered around digital literacy resources being made available in Spanish and other widely-used languages, in addition to English?

(e) How should the Institute of Museum and Library Sciences better encourage digital skills development in libraries and museums?

4. Strategic Partnerships and Collaboration: Please explain how state, local, nonprofit, and business partners are collaborating to implement successful digital literacy initiatives:

(a) How are the most successful partnerships structured? Are there required partners?

(b) Are there barriers preventing successful partnerships with business and industry partners at the state and/or local levels? If so, what are the barriers and what support is needed to overcome them?

(c) What is the role of employers in preparing new or incumbent workers for industry-specific digital skills, or how should workforce providers partner with employers? How might employer-specific digital skills be taught by the employer to build on skills taught by workforce grantees or training providers?

(d) Are there any specific digital skills that workforce and education training providers should be responsible for teaching learners, such as how to type or navigate digital devices?

5. Federal Investments in Digital Literacy: Please share what support from the federal government is needed to advance national digital literacy attainment efforts:

(a) Which existing federal programs/federal funding sources are being utilized to support digital resilience?

(b) Is additional federal funding needed for states/local governments to facilitate better services to the public?

(c) What types of technical assistance and resources would be most valuable to build digital resilience capacity?

(d) How are WIOA grantees/sub-grantees leveraging funding outside of WIOA, such as the Affordable Connectivity Program and/or digital equity funding under the Bipartisan Infrastructure Law, to address digital inclusion and equity challenges with federal funding?

(e) How can federally-funded workforce and education training programs work together to ensure that participants (adult and youth) receive needed training in foundational and occupation-specific digital literacy skills?

6. Digital Literacy & K-12 Public Education System: Please share successful strategies, key challenges, and lessons learned in addressing digital literacy for K-12 youth:

(a) What are the digital skills necessary to be considered digitally literate today? In the future?

(b) Which K-12 and community college/postsecondary education systems do you consider to be exemplars in teaching digital skills to adult learners, youth learners, and/or families/caregivers? Why?

(c) How should the Department of Education better encourage digital skills education in the K-12, community colleges, and adult education settings?

(d) What are some recommended strategies to ensure digital skills education evolves alongside society's technological advances?

Brent Parton,
Acting Assistant Secretary for Employment and Training, Labor.

[FR Doc. 2022-26461 Filed 12-7-22; 8:45 am]

BILLING CODE 4510-FN-P